DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “TeamSTEPPS 2.0 Online Master Trainer Course.”

DATES: Comments on this notice must be received by July 17, 2017.

ADDRESSES: Written comments should be submitted to: Doris Lefkowitz, Reports Clearance Officer, AHRQ, by email at doris.lefkowitz@ahrq.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by email at doris.lefkowitz@ahrq.hhs.gov.

SUPPLEMENTARY INFORMATION:

Proposed Project

TeamSTEPPS 2.0 Online Master Trainer Course

In accordance with the Paperwork Reduction Act of 1995, Public Law 104-13 (44 U.S.C. 3506(c)(2)(A)), AHRQ invites the public to comment on this proposed information collection. As part of its effort to fulfill its mission goals, AHRQ, in collaboration with the U.S. Department of Defense's TRICARE Management Activity, developed TeamSTEPPS® (Team Strategies and Tools for Enhancing Performance and Patient Safety) to provide an evidence-based suite of tools and strategies for training teamwork-based patient safety to health care professionals. TeamSTEPPS includes multiple toolkits, which are all tied to, or are variants of, the core curriculum. TeamSTEPPS resources have been developed for primary care, rapid response systems, long-term care, and patients with limited English proficiency.

The main objective of the TeamSTEPPS program is to improve patient safety by training health care staff in various teamwork, communication, and patient safety concepts, tools, and techniques and ultimately helping to build national capacity for supporting teamwork-based patient safety efforts in health care organizations.

Created in 2007, AHRQ's National Implementation Program trains Master Trainers who have stimulated the use and adoption of TeamSTEPPS in health care delivery systems. These individuals were trained during two-day, in-person classes using the TeamSTEPPS core curriculum at regional training centers across the U.S. AHRQ has also provided technical assistance and consultation on implementing TeamSTEPPS and has developed user networks, various educational venues, and other channel of learning for continued support and the improvement of teamwork in health care. Since the inception of the National Implementation Program, AHRQ has trained more than 6,000 participants to serve as TeamSTEPPS Master Trainers.

Due to the success of the National Implementation Program, which resulted in increased requests for in-person training, AHRQ had been unable to match the demand for TeamSTEPPS Master Training, and wait lists for training at times exceeded 500 individuals.

To address this prevailing need, AHRQ developed TeamSTEPPS 2.0 Online Master Trainer course, which mirrors the TeamSTEPPS 2.0 core curriculum and provides equivalent training to the in-person classes offered through the National Implementation Program.

As part of this initiative, AHRQ seeks to continue to conduct an evaluation of the TeamSTEPPS 2.0 Online Master Trainer program. This evaluation seeks to understand the effectiveness of TeamSTEPPS 2.0 Online Master Training and what revisions might be required to improve the training program.

This research has the following goals:

(1) Conduct a formative assessment of the TeamSTEPPS 2.0 Online Master Trainer program to determine what improvements should be made to the training and how it is delivered, and

(2) Identify how trained participants use and implement the TeamSTEPPS tools and resources.

The TeamSTEPPS 2.0 Online Master Trainer program is led by Reingold, Inc. This study is being conducted by Reingold's subcontractor, IMPAQ International (IMPAQ). This study is being conducted pursuant to AHRQ's statutory authority to conduct and support research on health care and on systems for the delivery of such care, including activities with respect to the quality, effectiveness, efficiency, appropriateness, and value of health care services and with respect to quality measurement and improvement, 42 U.S.C. 299a(a)(1) and (2).

Method of Collection

To achieve this project's goals, AHRQ will train participants using the TeamSTEPPS 2.0 Online Master Trainer program and then survey these participants six months post-training. Each activity is briefly described below.

1. TeamSTEPPS 2.0 Online Master Trainer Course. This training program, which includes 13 accredited hours of training, is based on the TeamSTEPPS 2.0 instructional materials and will be delivered online to 3,000 participants. The training will cover the core TeamSTEPPS tools and strategies, coaching, organizational change, and implementation science.

2. TeamSTEPPS 2.0 Online Post-Training Survey. This online instrument will be administered to all participants who complete the TeamSTEPPS 2.0 Online Master Training. The survey will be administered six months after participants complete the training program.

This data collection is for the purpose of conducting an evaluation of the TeamSTEPPS 2.0 Online Master Trainer program which was last approved by OMB on November 14th 2014 (OMB Control Number is 0935-0224), and will expire November 30th, 2017. The evaluation is primarily formative in nature as AHRQ seeks information to improve the delivery of the training.

This is a new data collection for the purpose of conducting an evaluation of TeamSTEPPS 2.0 Online Master Trainer program. The evaluation will be primarily formative in nature as AHRQ seeks information to improve the delivery of the training.

The OMB Control Number for the MEPS-HC and MPC is 0935-0118, which was last approved by OMB on December 20th, 2012, and will expire on December 31st, 2015.

To conduct the evaluation, the TeamSTEPPS 2.0 Online Post-Training Survey will be administered to all individuals who completed the TeamSTEPPS 2.0 Online Master Trainer program, six months after completing training. The purpose of the survey is to assess the degree to which participants felt prepared by the training and what they did to implement TeamSTEPPS. Specifically, participants will be asked about their reasons for participating in the program; the degree to which they feel the training prepared them to train others in and use TeamSTEPPS; what tools they have implemented in their organizations; and resulting changes they have observed in the delivery of care.

Estimated Annual Respondent Burden

Exhibit 1 shows the estimated annualized burden hours for the respondent's time to participate in the study. The TeamSTEPPS 2.0 Online Post-Training Survey will be completed by approximately 3,000 individuals. We estimate that each respondent will require 20 minutes to complete the survey. The total annualized burden is estimated to be 1,000 hours.

Exhibit 2 shows the estimated annualized cost burden based on the respondents' time to participate in the study. The total cost burden is estimated to be $45,320.

Exhibit 1—Estimated Annualized Burden Hours
Form name | Number of respondents | Number of responses per respondent | Hours per response | Total burden hours
Training participant questionnaire | 3,000 | 1 | 20/60 | 1,000
Total | 3,000 | N/A | N/A | 1,000

Exhibit 2—Estimated Annualized Cost Burden
Form name | Number of respondents | Total burden hours | Average hourly wage rate * | Total cost burden
Training participant questionnaire | 3,000 | 1,000 | $45.32 | $45,320
Total | 3,000 | 1,000 | N/A | $45,320
* Based on the mean of the average wages for all health professionals (29-0000) and wages for medical and health services managers (11-9111) for the training participant questionnaire presented in the National Compensation Survey: Occupational Wages in the United States, May 2016, U.S. Department of Labor, Bureau of Labor Statistics (https://www.bls.gov/oes/current/oes_nat.htm).

Request for Comments

In accordance with the Paperwork Reduction Act, comments on AHRQ's information collection are requested with regard to any of the following: (a) Whether the proposed collection of information is necessary for the proper performance of AHRQ health care research and health care information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Sharon B. Arnold,
Deputy Director.

[FR Doc. 2017-10066 Filed 5-17-17; 8:45 am]

BILLING CODE 4160-90-P